DEPARTMENT OF VETERANS AFFAIRS

[OMB Control No. 2900-0510]

Agency Information Collection Activity: Application for Exclusion of Children's Income

AGENCY: Veterans Benefits Administration, Department of Veterans Affairs.

ACTION: Notice.

SUMMARY: Veteran Benefits Administration (VBA), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before December 11, 2017.

ADDRESSES: Submit written comments on the collection of information through Federal Docket Management System (FDMS) at www.Regulations.gov or to Dawn Johnson, Department of Veterans Affairs, 810 Vermont Avenue NW., Washington, DC 20420 or email to Dawn.Johnson7@va.gov. Please refer to “OMB Control No. 2900-0510” in any correspondence. During the comment period, comments may be viewed online through FDMS.

FOR FURTHER INFORMATION CONTACT: Cynthia Harvey-Pryor at (202) 461-5870.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) Whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Authority: 38 U.S.C. 1521, 38 U.S.C 1541.

Title: Application for Exclusion of Children's Income (VA Form 21P-0571).

OMB Control Number: 2900-0510.

Type of Review: Extension without change of a currently approved collection.

Abstract: A veteran's or surviving spouse's rate of Improved Pension is determined by family income. Normally, income of children who are members of the household is included in this determination. However, children's income may be excluded if it is unavailable or if consideration of that income would cause hardship.

38 U.S.C. 1521(h) and 1541(g) provide the authority for the exclusion of children's income based on unavailability or hardship. VA Form 21P-0571, Application for Exclusion of Children's Income, is being transferred from Compensation Service to Pension and Fiduciary Service, due to changes in business lines.

VA Form 21P-0571 is used for the sole purpose of collecting the information needed to determine whether children's income is available to the beneficiary, and if it would cause hardship to consider their income.

Affected Public: Individuals and households.

Estimated Annual Burden: 2,025 hours.

Estimated Average Burden per Respondent: 45 minutes.

Frequency of Response: Once.

Estimated Number of Respondents: 2,700.

By direction of the Secretary.
Cynthia Harvey-Pryor,
Department Clearance Officer, Office of Quality, Privacy and Risk, Department of Veterans Affairs.

[FR Doc. 2017-21701 Filed 10-6-17; 8:45 am]

BILLING CODE 8320-01-P